DEPARTMENT OF THE INTERIOR

Geological Survey

[GX19EE000101100]

Public Meeting of the National Geospatial Advisory Committee

AGENCY: U.S. Geological Survey, Interior.

ACTION: Notice of public meeting.

SUMMARY: In accordance with the Federal Advisory Committee Act of 1972, the U.S. Geological Survey (USGS) is publishing this notice to announce that a Federal Advisory Committee meeting of the National Geospatial Advisory Committee (NGAC) will take place.

DATES: The meeting will be held on Tuesday, June 11, 2019 from 8:30 a.m. to 5:00 p.m., and on Wednesday, June 12, 2019 from 8:30 a.m. to 4:00 p.m. (Eastern Standard Time).

ADDRESSES: The meeting will be held at the Department of the Interior building, 1849 C Street NW, Washington, DC 20240 in the South Penthouse Conference Room. Send your comments to Group Federal Officer by email to gs-faca-mail@usgs.gov.

FOR FURTHER INFORMATION CONTACT: Mr. John Mahoney, Federal Geographic Data Committee (FGDC), U.S. Geological Survey (USGS), 909 First Avenue, Suite 800, Seattle, WA 98104; by email at jmahoney@usgs.gov; or by telephone at (206) 220-4621.

SUPPLEMENTARY INFORMATION: This meeting is being held under the provisions of the Federal Advisory Committee Act of 1972 (5 U.S.C., Appendix, as amended), the Government in the Sunshine Act of 1976 (5 U.S.C. 552B, as amended), and 41 CFR 102-3.140 and 102-3.150.

Purpose of the Meeting: The National Geospatial Advisory Committee (NGAC) provides advice and recommendations related to the management of Federal and national geospatial programs, the development of the National Spatial Data Infrastructure, and the implementation of the Geospatial Data Act of 2018 and Office of Management and Budget Circular A-16. The NGAC reviews and comments on geospatial policy and management issues and provides a forum to convey views representative of non-federal stakeholders in the geospatial community. The NGAC meeting is one of the primary ways that the FGDC collaborates with its broad network of partners. Additional information about the NGAC meeting is available at: www.fgdc.gov/ngac.

Agenda Topics

—FGDC Update

—Geospatial Data Act Implementation

—Cultural and Historical Geospatial Resources

—Geospatial Infrastructure

—Landsat Advisory Group

Meeting Accessibility/Special Accommodations: The meeting is open to the public from 8:30 a.m. to 5:00 p.m. on June 11 and from 8:30 a.m. to 4:00 p.m. on June 12. Members of the public wishing to attend the meeting should contact Ms. Lucia Foulkes by email at lfoulkes@usgs.gov to register no later than five (5) business days prior to the meeting. Seating may be limited due to room capacity. Individuals requiring special accommodations to access the public meeting should contact Ms. Lucia Foulkes at the email stated above or by telephone at 703-648-4142 at least five (5) business days prior to the meeting so that appropriate arrangements can be made.

Public Disclosure of Comments: Time will be allowed at the meeting for any individual or organization wishing to make formal oral comments. To allow for full consideration of information by the committee members, written notice must be provided to Ms. Lucia Foulkes, Federal Geographic Data Committee (FGDC), U.S. Geological Survey, 12201 Sunrise Valley Drive, MS-590, Reston, VA 20192; by email at lfoulkes@usgs.gov; or by telephone at 703-648-4142, at least five (5) business days prior to the meeting. Any written comments received will be provided to the committee members.

Before including your address, phone number, email address, or other personal identifying information in your comment, you should be aware that your entire comment—including your personal identifying information—may be made publicly available at any time. While you may ask us in your comment to withhold your personal identifying information from public review, we cannot guarantee that we will be able to do so.

Kenneth M. Shaffer,
Deputy Executive Director, Federal Geographic Data Committee.

[FR Doc. 2019-09669 Filed 5-9-19; 8:45 am]

BILLING CODE 4338-11-P